DEPARTMENT OF DEFENSE

Office of the Secretary

[Docket ID: DoD-2023-OS-0084]

Submission for OMB Review; Comment Request

AGENCY: Office of the Under Secretary of Defense for Acquisition and Sustainment (USD(A&S)), Department of Defense (DoD).

ACTION: 30-Day information collection notice.

SUMMARY: The DoD has submitted to the Office of Management and Budget (OMB) for clearance the following proposal for collection of information under the provisions of the Paperwork Reduction Act.

DATES: Consideration will be given to all comments received by February 20, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Lane Purvis, (571) 372-0460, whs.mc-alex.esd.mbx.dd-dod-information-collections@mail.mil.

SUPPLEMENTARY INFORMATION:

Title; Associated Form; and OMB Number: Community Noise Mitigation Program Grant Proposals; OMB Control Number: 0704-CNMP.

Type of Request: New.

Number of Respondents: 50.

Responses per Respondent: 1.

Annual Responses: 50.

Average Burden per Response: 40 hours.

Annual Burden Hours: 2,000.

Needs and Uses: Section 8120 of the Consolidated Appropriations Act, 2022 (Pub. L. 117-103) provided $75 million to the Office of Local Defense Community Cooperation (OLDCC) of the DoD to “make grants to communities impacted by military aviation noise for the purpose of installing noise mitigating insulation at covered facilities.” These funds expire if they are not obligated prior to September 30, 2025.

To implement this congressional direction, OLDCC may award grants to local governments under the competitive Community Noise Mitigation Program (CNMP) for the purpose of reducing the impact of fixed wing military aviation noise on “covered” facilities. Covered facilities include hospitals, daycare facilities, schools, facilities serving senior citizens, and private residences. Covered facilities that are considered potentially eligible are located either within one (1) mile of a military installation boundary or within an area experiencing day-night average sound level of 65 decibels or greater due to military fixed-wing aviation noise. Information collection from the public is necessary to facilitate the awarding of grants under CNMP. Respondents will be states, territories, counties, municipalities, other political subdivisions of a state, special purpose units of a state or local government, other instrumentalities of a state or local government, and tribal nations supporting a military installation. The collection instrument is a grant proposal package prepared in accordance with the CNMP Notice of Funding Opportunity Announcement posted on the Grants.gov website (https://www.grants.gov/web/grants/view-opportunity.html?oppId=349858). The Notice of Funding Opportunity Forecast details the elements that will be required for a proposal to be considered complete.

Affected Public: State, local, or Tribal government.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Lane Purvis.

Requests for copies of the information collection proposal should be sent to Mr. Purvis at whs.mc-alex.esd.mbx.dd-dod-information-collections@mail.mil.

Dated: January 10, 2024.
Aaron T. Siegel,
Alternate OSD Federal Register Liaison Officer, Department of Defense.

[FR Doc. 2024-00898 Filed 1-17-24; 8:45 am]

BILLING CODE 6001-FR-P